DEPARTMENT OF COMMERCE

International Trade Administration

[A-557-813]

Polyethylene Retail Carrier Bags from Malaysia: Notice of Rescission of Administrative Review

AGENCY: Import Administration, International Trade Administration, Department of Commerce.

SUMMARY: In response to requests by interested parties, the Department of Commerce (Department) initiated an administrative review of the antidumping duty order on polyethylene retail carrier bags (PRCBs) from Malaysia with respect to three producers/exporters of the subject merchandise. The period of review (POR) is August 1, 2006, through July 31, 2007. The Department is now rescinding this administrative review in its entirety.

EFFECTIVE DATE: July 15, 2008.

FOR FURTHER INFORMATION CONTACT: Lyn Johnson or Richard Rimlinger, AD/CVD Operations, Office 5, Import Administration, International Trade Administration, U.S. Department of Commerce, 14th Street and Constitution Avenue, NW, Washington, DC 20230; telephone: (202) 482-5287 and (202) 482-4477, respectively.

SUPPLEMENTARY INFORMATION:

Background

On May 6, 2008, the Department published a Notice of Partial Rescission of the Administrative Review and Intent to Rescind the Administrative Review, 73 FR 24941 (May 6, 2008) (Intent to Rescind), where it rescinded the review of the antidumping duty order on PRCBs from Malaysia with respect to King Pac and announced its intent to rescind the review with respect to Euro Plastics Malaysia Sdn. Bhd. and its affiliate Eplastics Procurement Center Sdn. Bhd. (Euro Plastics) and with respect to Zhin Hin Plastic Manufacturer Sdn. Bhd. (also known as Chin Hin Plastic Manufacture) (Zhin Hin).

Scope of the Order

The merchandise subject to this antidumping duty order is PRCBs which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches (15.24 cm) but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.Imports of the subject merchandise are currently classifiable under statistical category 3923.21.0085 of the Harmonized Tariff Schedule of the United States (HTSUS). Furthermore, although the HTSUS subheading is provided for convenience and customs purposes, the written description of the scope of this order is dispositive.

Rescission of the Administrative Review

In Intent to Rescind, 73 FR at 24942, we gave interested parties an opportunity to comment by June 5, 2008. We did not receive any comments. Therefore, consistent with Intent to Rescind, we continue to find that Euro Plastics and Zhin Hin (the only remaining companies in this review) had no entries of subject merchandise during the POR. Accordingly, we are rescinding this administrative review in its entirety pursuant to 19 CFR 351.213(d)(3).

This notice serves as a reminder to parties subject to the administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i)(1) of the Act.

Dated: July 08, 2008.
Stephen J. Claeys,
Deputy Assistant Secretary for Import Administration.

[FR Doc. E8-16153 Filed 7-14-08; 8:45 am]

BILLING CODE 3510-DS-S